DEPARTMENT OF COMMERCE

International Trade Administration

[A-489-842]

Prestressed Concrete Steel Wire Strand From the Republic of Turkey: Notice of Court Decision Not in Harmony With the Final Determination of Antidumping Investigation; Notice of Amended Final Determination

AGENCY: Enforcement and Compliance, International Trade Administration, Department of Commerce.

SUMMARY: On May 26, 2022, the U.S. Court of International Trade (CIT) issued its final judgment in Celik Halat ve Tel Sanayi A.S. v. United States, Consol. Court no. 21-00045, sustaining the U.S. Department of Commerce's (Commerce) remand redetermination pertaining to the antidumping duty (AD) investigation of prestressed concrete steel wire strand (PC strand) from the Republic of Turkey (Turkey) covering the period of investigation April 1, 2019, through March 31, 2020. Commerce is notifying the public that the CIT's final judgment is not in harmony with Commerce's final determination and Commerce is amending the final determination and the resulting AD order with respect to the dumping margin assigned to Celik Halat ve Tel Sanayi A.S. (Celik Halat) and all other producers and exporters of subject merchandise.

DATES: Applicable June 5, 2022.

FOR FURTHER INFORMATION CONTACT: Ajay Menon, AD/CVD Operations, Office II, Enforcement and Compliance, International Trade Administration, U.S. Department of Commerce, 1401 Constitution Avenue NW, Washington, DC 20230; telephone: (202) 482-0208.

SUPPLEMENTARY INFORMATION:

Background

On December 11, 2020, Commerce published its Final Determination in the AD investigation of PC strand from Turkey. Commerce assigned a dumping margin of 53.65 percent to Celik Halat and all other producers and exporters of subject merchandise.¹ Commerce subsequently published the AD order on PC strand from Turkey.²

¹ See Prestressed Concrete Steel Wire Strand from Argentina, Colombia, Egypt, the Netherlands, Saudi Arabia, Taiwan, the Republic of Turkey, and the United Arab Emirates: Final Affirmative Determinations of Sales at Less Than Fair Value and Final Affirmative Critical Circumstances Determinations, in Part, 85 FR 80001 (December 11, 2021) (Final Determination). Commerce later published a correction to the Final Determination to list the adjusted cash deposit rates after accounting for export subsidies in the companion countervailing duty investigation. See Prestressed Concrete Steel Wire Strand from the Republic of Turkey: Notice of Correction to the Final Affirmative Determination of Sales at Less Than Fair Value, 86 FR 11724 (February 26, 2021).

² See Prestressed Concrete Steel Wire Strand from Argentina, Colombia, Egypt, the Netherlands, Saudi Arabia, Taiwan, the Republic of Turkey, and the United Arab Emirates: Antidumping Duty Orders, 86 FR 7703 (February 1, 2021).

Celik Halat appealed Commerce's Final Determination. On February 15, 2022, the CIT remanded the Final Determination to Commerce, instructing Commerce to determine Celik Halat's estimated weighted-average dumping margin without applying section 776 of the Tariff Act of 1930, as amended (the Act) with respect to the filing of the company's response to sections B and C of the AD questionnaire.³

³ See Celik Halat ve Tel Sanayi A.S. v. United States, Slip Op. 22-12, Consol. Court No. 21-00045 (CIT February 15, 2022).

In its final remand redetermination, issued in April 2022, Commerce reopened the record for Celik Halat to submit its response to sections B and C of the AD questionnaire and used this information to calculate Celik Halat's weighted-average dumping margin.⁴ As a result, Celik Halat's revised weighted-average dumping margin is 17.88 percent. The CIT sustained Commerce's final redetermination.⁵

⁴ See Final Results of Redetermination Pursuant to Court Remand, Consol. Court No. 21-00045, dated April 1, 2022.

⁵ See Celik Halat ve Tel Sanayi A.S. v. United States, Slip Op. 22-54, Consol. Court No. 21-00045 (CIT May 26, 2022).

Timken Notice

In its decision in Timken,⁶ as clarified by Diamond Sawblades,⁷ the U.S. Court of Appeals for the Federal Circuit held that, pursuant to section 516A€ a€(e) of the Act, Commerce must publish a notice of court decision that is not “in harmony” with a Commerce determination and must suspend liquidation of entries pending a “conclusive” court decision. The CIT's May 26, 2022 judgment constitutes a final decision of the CIT that is not in harmony with Commerce's Final Determination. Thus, this notice is published in fulfillment of the publication requirements of Timken.

⁶ See Timken Co. v. United States, 893 F.2d 337 (Fed. Cir. 1990) (Timken).

⁷ See Diamond Sawblades Manufacturers Coalition v. United States, 626 F.3d 1374 (Fed. Cir. 2010) (Diamond Sawblades).

Amended Final Determination

Because there is now a final court judgment, Commerce is amending its Final Determination with respect to Celik Halat as follows:

Producer/exporter | Weighted-average dumping margin (percent) | Cash deposit rate ⁸
Celik Halat ve Tel Sanayi A.S. | 17.88 | 17.39
All Others | 17.88 | 17.39

Cash Deposit Requirements

⁸ The cash deposit rate for Celik Halat and the companies covered by the all-others rate is adjusted for the export subsidies found for Celik Halat in the final remand redetermination of the companion countervailing duty investigation (i.e., 0.49 percent). See Final Results of Redetermination Pursuant to Court Remand, Court No. 21-00050, dated April 15, 2022, at 26-27 and 30-32, aff'd Celik Halat ve Tel Sanayi A.S. v. United States, Slip Op. 22-55, Consol. Court No. 21-00050 (CIT May 26, 2022).

Commerce will issue revised cash deposit instructions to U.S. Customs and Border Protection.

Notification to Interested Parties

This notice is issued and published in accordance with sections 516A(c) and (e) and 777(i)(1) of the Act.

Dated: May 31, 2022.
Lisa W. Wang,
Assistant Secretary for Enforcement and Compliance.

[FR Doc. 2022-12094 Filed 6-3-22; 8:45 am]

BILLING CODE 3510-DS-P